DEPARTMENT OF TRANSPORTATION

Research and Special Programs Administration

Office of Hazardous Materials Safety; Notice of Applications for Modification of Exemption

AGENCY: Research and Special Programs Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” demote a modification request. There applications have been separated from the new application for exemption to facilitate processing.

DATES: Comments must be received on or before August 9, 2004.

Address Comments to: Record Center, Research and Special Programs Administration, U.S. Department of Transportation, Washington, DC 20590.

Comments should refer to the application number and be submitted in triplicate. If confirmation of receipt of comments is desired, include a self-addressed stamped postcard showing the exemption number.

FOR FURTHER INFORMATION: Copies of the applications are available for inspection in the Records Center, Nassif Building, 400 7th Street, SW., Washington, DC or at http://dms.dot.gov.

This notice of receipt of applications for modification of exemption is published in accordance with part 107 of the Federal hazardous materials transportation law (49 U.S.C. 5117(b); 49 CFR 1.53(b)).

Issued in Washington, DC, on July 15, 2004.
R. Ryan Posten,
Exemptions Program Officer, Office of Hazardous Materials Exemptions & Approvals.

Application No. | Docket No. | Applicant | Regulation(s) affected | Modification of exemption | Nature of exemption thereof
MODIFICATION EXEMPTIONS
11537-M |  | American Development Corporation, Fayetteville, TN | 49 CFR 177.834(h) | 11537 | To modify the exemption to authorize discharge of a Division 5.1 material from a UN Standard UN31H2 or UN31HA1 Intermediate Bulk Container (IBC) securely mounted to a flatbed trailer, unloaded while on a motor vehicle.
13027-M | RSPA-02-12451 | Hernco Fabrication & Services, Midland, TX | 49 CFR 173.241; 173.242 | 13027 | To modify the exemption to authorize the filling overflow line shutoff valve on top of manifolded non-DOT specification tanks to remain open during transportation.
13321-M | RSPA-03-16598 | Quest Diagnostics, Inc., Collegeville, PA | 49 CFR 173.28(b)(3) | 13321 | To modify the exemption to authorize the transportation of Diagnostic Specimens in specially designed UN5L3 reusable textile bags.
13568-M | RSPA-04-17985 | Spectrum Astro, Inc., Gilbert, AZ | 49 CFR 173.301(a)(1) & 173.301(f) | 13568 | To reissue the exemption originally issued on an emergency basis for the transportation in commerce of non-DOT propellant tanks fully pressurized for use in a space vehicle flow system.

[FR Doc. 04-16653 Filed 7-21-04; 8:45 am]

BILLING CODE 4909-60-M